DEPARTMENT OF COMMERCE

National Oceanic and Atmospheric Administration

[Docket No. 000301055-0055-01; I.D. 012400A]

RIN: 0648-ZA81

Financial Assistance for Chesapeake Bay Stock Assessments to Encourage Research Projects for Improvement in the Stock Conditions of the Chesapeake Bay Fisheries

AGENCY: National Marine Fisheries Service (NMFS), National Oceanic and Atmospheric Administration (NOAA), Commerce.

ACTION: Notice of availability of funds.

SUMMARY: A total of up to $540,000 in Fiscal Year (FY) 2000 funds is available through the NOAA/NMFS Chesapeake Bay Office to assist interested state fishery agencies, academic institutions, and other nonprofit organizations relating to cooperative research units, in carrying out research projects to provide information for Chesapeake Bay Stock Assessments through cooperative agreements. About $285,000 of the base amount are available to initiate new projects in FY 2000, as described in this announcement. In addition, it is anticipated that supplemental FY 2000 funds, up to $500,000, will be provided to investigate multispecies management and research in Chesapeake Bay. NMFS issues this notice describing the conditions under which eligible applications will be accepted and how NMFS will determine which applications will be selected for funding.

DATES: Applications for funding under this program must be received by 5 p.m. eastern standard time on April 21, 2000. Applications received after that time will not be considered for funding. No applications will be accepted by facsimile machine submission.

Successful applicants generally will be selected approximately 90 days after the date of publication in the Federal Register of this notice. The earliest date for awards will be approximately 180 days after the date of publication in the Federal Register of this notice.

ADDRESSES: Send applications to: Derek Orner, National Marine Fisheries Service, NOAA Chesapeake Bay Office, 410 Severn Avenue, Suite 107A, Annapolis, MD 21403.

FOR FURTHER INFORMATION CONTACT: Derek Orner, 410/267-5660; or

e-mail: derek.orner@noaa.gov.

SUPPLEMENTARY INFORMATION:

I. Introduction

A. Authority. The Fish and Wildlife Act of 1956, as amended, at 16 U.S.C. 753 (a), authorizes the Secretary of Commerce (Secretary), for the purpose of developing adequate, coordinated, cooperative research and training programs for fish and wildlife resources, to continue to enter into cooperative agreements with colleges and universities, with game and fish departments of the several states, and with non-profit organizations relating to cooperative research units. The Departments of Commerce (DOC), Justice, State, the Judiciary, and Related Agencies Appropriations Act of 2000 makes funds available to the Secretary.

B. Catalog of Federal Assistance. The research to be funded is in support of the Chesapeake Bay Studies (CFDA 11.457), under the Chesapeake Bay Stock Assessment Committee (CBSAC).

C. Program Description. CBSAC was established in 1985 to plan and review Bay-wide resource assessments, coordinate relevant actions of state and Federal agencies, report on fisheries status and trends, and determine, fund and review research projects. The program implements a Bay-wide plan for the assessment of commercially, recreationally, and selected ecologically important species in the Chesapeake Bay. In 1988, CBSAC developed a Bay-wide Stock Assessment Plan, in response to provisions in the Chesapeake Bay Agreement of 1987. The Plan identified that key obstacles to assessing Bay stocks was the lack of consistent, Bay-wide, fishery-dependent and fishery-independent data. Research projects funded since 1988 have focused on developing and improving fishery-independent surveys and catch statistics for key Bay species, such as striped bass, oysters, blue crabs and alosids. Stock assessment research is essential, given the recent declines in harvest and apparent stock condition for many of the important species of the Chesapeake Bay.

D. Funding Availability. (1) This solicitation announces that funding of up to $285,000 will be available for new initiatives in FY00 for research projects providing regional information required for stock assessments. (2) This solicitation also announces that funding of up to $500,000 is anticipated to be available for projects providing information on multispecies management or research in Chesapeake Bay.

II. Areas of Special Emphasis

A. Proposals should exhibit familiarity with related work that is completed or ongoing. Where appropriate, proposals should be multi-disciplinary. Coordinated efforts involving multiple eligible applicants or persons are encouraged. Eligible women and minority owned and operated non-profit organizations are encouraged to apply. (See Section III.A.)

(1) Stock Assessment Research - Consideration for funding will be given to applications that address the following stock assessment research and management priorities for the Chesapeake Bay. These priorities are not listed in any implied order:

(a) Conduct assessments of the abundance, productivity, and distribution of important Chesapeake Bay finfish and shellfish resources together with the patterns of their exploitation. Successful proposals may include research on life history characteristics, stock-recruitment relationships, and schedules of vital rates. Descriptions of stock structure, demographics and spatial distribution would also be appropriate. It is hoped that proposals would combine analyses of existing fishery-dependent and fishery-independent data. Proposals focusing on hard clams are particularly encouraged.

(b) Design of a method/survey to estimate the Baywide abundance of oysters in Chesapeake Bay. The purpose of this survey will be to track progress towards achieving the Chesapeake Bay Program goal of increasing the oyster population in Chesapeake Bay ten-fold by the year 2010. The investigators should take into consideration existing state surveys that already fill various data needs.

(c) Blue Crab Recreational Survey—A substantial blue crab recreational fishery exists in the Chesapeake Bay which has never been fully assessed. Recent work includes the development of methods for conducting a Baywide recreational survey for the blue crab. Projects should:

(i) Review the work previously conducted and begin implementation on a Baywide scale based on earlier work;

(ii) Provide reliable estimates of recreational catch, fishing effort, catch rates, size composition, and sex ratios for all components of the blue crab recreational fisheries.

(d) Improvement or implementation of the collection of fishery-dependent data within Chesapeake Bay. Projects can involve either the commercial and/or recreational components of the fishery. Projects should focus on collecting biological data (size, sex, age, diet), and catch and effort data from Bay-wide harvests of significant finfish and shellfish fisheries to provide accurate, statistically representative information on the spatial and temporal characteristics of the harvest. Proposals may involve designs for port-sampling of landings, or on-board anaysis of the catch, analysis of intercepts and telephone surveys. Proposals that document information on by-catch would be relevant.

The proposals should recognize current efforts to collect biological data from Bay fisheries and attempt to define the optimal, regional (Maryland, Potomac River Fisheries Commission, and Virginia jurisdictions) sampling program. Proposals focusing on the blue crab commercial fishery are particularly encouraged.

(2) Multispecies Management or Research - The Chesapeake Bay is a complex and dynamic ecosystem that supports many fisheries that are economically important both regionally and nationally. To date, these resources have been managed on a single species basis. This single species approach has served us well; however, the existence of both biological and technical (by-catch) interactions in most of Chesapeake Bay fisheries point to the need to move toward a wider, multispecies perspective. This viewpoint was wholeheartedly endorsed at a workshop of regional, national and international scientists held to address the potential utility of multispecies approaches to fisheries management in the Chesapeake Bay (STAC Publication 98-002, www.chesapeake.org). The ultimate objective of this research and monitoring is to lead to the development of an ecosystem plan for Chesapeake Bay fisheries, within which the rational exploitation of individual species can be determined.

Consideration for funding will be given to applications that address the following multispecies management and research priorities for the Chesapeake Bay. It should be realized that certain priorities may require a larger funding commitment, although the priorities are not listed in any implied order:

(a) Fishery-independent Surveys. CBSAC seeks proposals to plan, develop and initiate coordinated Baywide surveys to regularly estimate species abundances, trends and biological characteristics (e.g., age/size structure, recruitments, growth and mortality rates, food habitats) for economically and ecologically important key species. Proposals within this task may:

(i) Review and assess existing fishery independent sampling programs conducted by regional agencies to evaluate their potential applicability to the Chesapeake Bay. This may include evaluation of the use of fixed and random sampling protocols, with or without stratification, and the sampling characteristics of different gear types.

(ii) Develop and initiate a Baywide, coordinated, fishery-independent survey that may include multiple gear, such as benthic and midwater trawling, and hydroacoustics to characterize the status and trends in the abundance, distribution and characteristics of key Chesapeake Bay finfish and shellfish.

(b) Retrospective Analyzes. CBSAC seeks proposals to document and quantify multispecies interactions among economically and ecologically important finfish and shellfish within the Chesapeake Bay. The proposed work should lead to the identification of the πstrong' interactions within the Chesapeake Bay fisheries system. Work may involve analysis of commercial and recreational catch and effort data, the analysis of the patterns of diets and energy flows within the fisheries system, or multivariate analyzes of abundance relationships within the fisheries system and their relationship to environmental and habitat characteristics.

(c) Multispecies Assessment. CBSAC seeks proposals to apply and assess alternative multispecies fisheries models to the Chesapeake Bay fisheries systems. Examples of possible approaches include multispecies biomass dynamic, multispecies yield per recruit, multispecies bioenergetics, and multispecies simulation models. Model approaches should seek to predict constraints and patterns in the fisheries production of the Chesapeake Bay system.

(d) Technical Interactions (By-catch). CBSAC seeks proposals to quantify and assess the importance of technical interactions, e.g., by-catch within the Chesapeake Bay fishery. Proposals should quantify the species involved, the distribution and magnitude of by-catch by species, gear, location and season.

(e) Design and develop an integrated, Baywide blue crab mark and recapture study that will provide information on growth, natural mortality, fishing mortality, size selectivity, catchability, reporting rates and the distribution of harvest among the fisheries. Results should also be informative with respect to the reproductive frequency of female crabs, and longevity. Recognizing the scope of this project, subcomponents that will help in contributing to the development of a Baywide framework for this project will be accepted.

(f) Improvement or implementation of the collection of fishery-dependent data within Chesapeake Bay. Projects can involve either the commercial and/or recreational components of the fishery. Baywide Projects should focus on collecting biological data (size, sex, age, diet), and catch and effort data from harvests of significant finfish and shellfish fisheries to provide accurate, statistically representative information on the spatial and temporal characteristics of the harvest. Proposals may involve designs for port-sampling of landings, or on-board anaysis of the catch, analysis of intercepts and telephone surveys. Proposals that document information on by-catch would be relevant.

The proposals should recognize current efforts to collect biological data from Bay fisheries and attempt to define the optimal, regional (Maryland, Potomac River Fisheries Commission, and Virginia jurisdictions) sampling program. Proposals focusing on the blue crab commercial fishery and its effect on the Chesapeake Bay ecosystem are encouraged.

B. Applications addressing the priorities should build upon, or take into account, any related past or current work.

III. How to Apply

A. Eligible applicants. Applications for cooperative agreements under the Chesapeake Bay Studies Program may be submitted, in accordance with the procedures set forth in this notice, by any state game and fish department, college or university, or other nonprofit organizations relating to cooperative research units. Other Federal agencies or institutions are not eligible to receive Federal assistance under this notice.

DOC/NOAA/NMFS employees, including full-time, part-time and intermittent personnel are not eligible to submit an application under this solicitation or aid in the preparation of an application, except to provide information on program goals, funding priorities, application procedures, and completion of application forms. Since this is a competitive program, assistance will not be provided in conceptualizing, developing, or structuring proposals.

Eligible applicants outside the Chesapeake Bay region may submit proposals, as long as their objectives support the technical and management priorities of the Chesapeake Bay, as defined in section II.A. All solicited proposals received by the closing date will be considered by NMFS.

Pursuant to Executive Orders 12876, 12900, and 13021, the Department of Commerce National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation's capacity to provide high-quality education, and to increase opportunities for MSIs to participate in and benefit from Federal financial assistance programs. DOC/NOAA encourages all applicants to include meaningful participation of MSIs.

B. Duration and terms of funding. Under this solicitation, NMFS will fund Chesapeake Bay Stock Assessment Research Projects for 1-year cooperative agreements. The cooperative agreement has been determined as the appropriate funding instrument because of the substantial involvement of NMFS in:

1. Developing program research priorities;

2. Evaluating the performance of the program for effectiveness in meeting regional goals for Chesapeake Bay stock assessments;

3. Monitoring the progress of each funded project;

4. Holding periodic workshops with investigators; and

5. Working with recipients in preparation of annual reports summarizing current accomplishments of the Chesapeake Bay Stock Assessment Committee. Project dates should be scheduled to begin no later than 1 October 2000. Cooperative agreements are approved on an annual basis but may be considered eligible for continuation beyond the first project and budget period subject to the approved scope of work, satisfactory progress, and availability of funds at the total discretion of NMFS. However, there are no assurances for such continuation. Publication of this notice does not obligate NMFS to award any specific cooperative agreement or to obligate any part of the entire amount of funds available.

C. Cost-Sharing requirements. Applications must reflect the total budget necessary to accomplish the project, including contributions and/or donations. Cost sharing is not required under the Chesapeake Bay Stock Assessment Research Program. However, cost sharing is encouraged to enhance the value of a project, and in case of a tie in considering proposals for funding, cost-sharing may affect the final decision. The appropriateness of all cost-sharing will be determined on the basis of guidance provided in applicable Federal cost principles. If an applicant chooses to share cost, and if that application is selected for funding, the applicants will be bound by the percentage of cost sharing reflected in the award documents.

The non-Federal share may include funds received from private sources or from state or local governments or the value of in-kind contributions. Federal funds may not be used to meet the non-Federal share of matching funds, except as provided by Federal statute. In-kind contributions may be in the form of, but are not limited to, personal services rendered in carrying out functions related to the project, and permission to use real or personal property owned by others (for which consideration is not required) in carrying out the project. To support the budget, the applicant must describe briefly the basis for estimating the value of the non-Federal funds derived from in-kind contributions.

The total cost of a project begins on the effective date of a cooperative agreement between the applicant and an authorized representative of the U.S. Government and ends on the date specified in the award. Accordingly, the time expended and costs incurred in either the development of a project or the financial assistance application, or in any subsequent discussions or negotiations prior to the award, are neither reimbursable nor recognizable as part of the recipient's cost share.

D. Format. 1. Applications for project funding must be complete. Applicants must identify the specific research priority or priorities to which they are responding. For applications containing more than one project, each project component must be identified individually using the format specified in this section. If an application is not in response to a priority, it should be so stated. Applicants should not assume prior knowledge on the part of NMFS as to the relative merits of the project described in the application. Applications are not to be bound in any manner and should be one-sided. All incomplete applications will be returned to the applicant. Applicants must submit one signed original and two copies of the complete application.

2. Applications must be submitted in the following format:

(a) Cover sheet: An applicant must use OMB Standard Form 424 (revised 4/92) as the cover sheet for each project. Applicants may obtain copies of these forms from the NOAA Grants Management Division, the NOAA Chesapeake Bay Office (see ADDRESSES) or from the NOAA Grants website, http://www.rdc.noaa.gov/ grants/.

(b) Project summary: Each proposal must contain a summary of not more than one page that provides the following:

(1) Project title.

(2) Project status (new).

(3) Project duration (beginning and ending dates).

(4) Name, address, and telephone number of applicant.

(5) Principal Investigator(s).

(6) Project objectives.

(7) Summary of work to be performed.

(8) Total Federal funds requested.

(9) Cost-sharing to be provided from non-Federal sources, if any. Specify whether contributions are project-related cash or in-kind.

(10) Total project cost.

(c) Project description: Each project must be completely and accurately described. Each project description may be up to 15 pages in length. If an application is awarded, NMFS will make all portions of the project description available to the public for review; therefore, NMFS cannot guarantee the confidentiality of any information submitted as part of any project, nor will NMFS accept for consideration any project requesting confidentiality of any part of the project.

Each project must be described as follows:

(1) Identification of problem(s): Describe the specific problem to be addressed (see section II).

(2) Project objectives: This is one of the most important parts of the Project Proposal. Use the following guidelines for stating the objective of the project.

(a) Keep it simple and easily understandable.

(b) Be as specific and quantitative as possible.

(c) Specify the “what and when;” avoid the “how and why.”

(d) Keep it attainable within the time, money, and human resources available.

(e) Use action verbs that are accomplishment oriented.

(3) Need for Government financial assistance: Demonstrate the need for assistance. Any appropriate database to substantiate or reinforce the need for the project should be included. Explain why other funding sources cannot fund all the proposed work. List all other sources of funding that are or have been sought for the project.

(4) Benefits or results expected: Identify and document the results or benefits to be derived from the proposed activities.

(5) Project statement of work: The Statement of Work is the scientific or technical action plan of activities that are to be accomplished during each budget period of the project. This description must include the specific methodologies, by project job activity, proposed for accomplishing the proposal's objective(s). If the work described in this section does not contain sufficient detail to allow for proper technical evaluation, NMFS will not consider the application for funding and will return it to the applicant.

Investigators submitting proposals in response to this announcement are strongly encouraged to develop inter-institutional, inter-disciplinary research teams in the form of single, integrated proposals or as individual proposals that are clearly linked together. Such collaborative efforts will be factored into the final funding decision.

Each Statement of Work must include the following information:

(a) The applicant's name.

(b) The inclusive dates of the budget period covered under the Statement of Work.

(c) The title of the proposal.

(d) The scientific or technical objectives and procedures that are to be accomplished during the budget period. Devise a detailed set of objectives and procedures to answer who, what,

how, when, and where. The procedures must be of sufficient detail to enable competent workers to be able to follow them and to complete scheduled activities.

(e) Location of the work.

(f) A list of all project personnel and their responsibilities.

(g) A milestone table that summarizes the procedures (from item III.D.2.c(5)(d)) that are to be attained in each project month covered by the Statement of Work. Table format should follow sequential month rather than calendar month (i.e., Project period Month 1, Month 2, versus October, November).

(6) Federal, state and local government activities: List any programs (Federal, state, or local government or activities, including Sea Grant, state Coastal Zone Management Programs, NOAA Oyster Disease Research Program, the state/Federal Chesapeake Bay Program, etc.) this project would affect and describe the relationship between the project and those plans or activities.

(7) Project management: Describe how the project will be organized and managed. Include resumes of principal investigators. List all persons directly employed by the

applicant who will be involved with the project. If a consultant and/or subcontractor is selected prior to application submission, include the name and qualifications of the consultant and/or subcontractor and the process used for selection.

(8) Monitoring of project performance: Identify who will participate in monitoring the project.

(9) Project impacts: Describe how these products or services will be made available to the fisheries and management communities.

(10) Evaluation of project: The applicant is required to provide an evaluation of project accomplishments at the end of each budget period and in the final report. The application must describe the methodology or procedures to be followed to determine technical feasibility, or to quantify the results of the project in promoting increased production, product quality and safety, management effectiveness, or other measurable factors.

(11) Total project costs: Total project costs is the amount of funds required to accomplish what is proposed in the Statement of Work, and includes contributions and donations. All costs must be shown in a detailed budget. A standard budget form (SF-424A) is available from the offices listed and on the internet (see ADDRESSES). NMFS will not consider fees or profits as allowable costs for grantees. Additional cost detail may be required prior to a final analysis of overall cost allowability, allocability, and reasonableness. The date, period covered, and findings for the most recent financial audit performed, as well as the name of the audit firm, the contact person, and phone number and address, must be also provided.

(d) Supporting documentation: Provide any required documents and any additional information necessary or useful to the description of the project. The amount of information given in this section will depend on the type of project proposed, but should be no more than 20 pages. The applicant should present any information that would emphasize the value of the project in terms of the significance of the problems addressed. Without such information, the merits of the project may not be fully understood, or the value of the project may be underestimated. The absence of adequate supporting documentation may cause reviewers to question assertions made in describing the project and may result in lower ranking of the project. Information presented in this section should be clearly referenced in the project description.

IV. Review Process and Criteria

A. Initial Evaluation of Applications. Applications will be reviewed by NOAA to assure that they meet all requirements of this announcement, including eligibility and relevance to the Chesapeake Bay Stock Assessment Research Program.

B. Consultation with Experts in the Field of Stock Assessment Research. For applications meeting the requirements of this solicitation, NMFS will conduct a technical evaluation of each project prior to any other review. This review normally will involve experts from both non-NOAA and NOAA organizations. All comments submitted to NMFS will be taken into consideration in the technical evaluation of projects. Reviewers will be asked to comment on the following evaluation criteria:

1. Problem description and conceptual approach for resolution, especially the applicant's comprehension of the problem(s), familiarity with related work that is completed or ongoing, and the overall concept proposed to resolve the problem(s) (30 points).

2. Soundness of project design/technical approach, especially whether the applicant provided sufficient information to technically evaluate the project and, if so, the strengths and weaknesses of the technical design proposed for problem resolution (35 points).

3. Project management and experience and qualifications of

personnel, including organization and management of the project, and the personnel experience and qualifications (15 points).

4. Justification and allocation of the budget in terms of

the work to be performed (20 points).

C. Review Panel. NMFS will convene a review panel consisting of at least three regionally recognized experts in the scientific and management aspects of stock assessment research who will conduct reviews as follows:

1. Evaluate technical reviews.

2. Provide independent review based on the same criteria as the technical review.

3. Discuss all review comments as a panel.

4. Provide individual panelist scores and suggestions for modifications (i.e., budget, personnel, technical approach, etc.).

D. Funding Decision. 1. Applications will be ranked by NMFS into two groups: (a) Recommended, and (b) not recommended.

2. After projects have been evaluated and ranked for funding, the Chief of the NOAA/NMFS Chesapeake Bay Office, in consultation with the Assistant Administrator (AA) for Fisheries, NOAA, will determine the projects to be recommended for funding based upon the technical evaluations, panel review and the evaluation factors, and determine the amount of funds available for the program. Numeric ranking will be the major consideration for deciding which of the “recommended” proposals will be selected for funding. In making the final selections, NOAA/NMFS may consider costs, geographical distribution and duplication with other federally funded projects. The Chief of the NOAA/NMFS Chesapeake Bay Office will prepare a written justification for any recommendations for funding that fall outside the ranking order, or for any cost adjustments. Awards are not necessarily made to the highest ranked applications. The exact amount of funds awarded to each project will be determined in preaward negotiations between the applicant, the Grants Office, and the NOAA/NMFS Chesapeake Bay Office staff.

V. Administrative Requirements

A. Obligations of the Applicant. 1. Deliverables—In addition to periodic status and budget reports, recipients must submit up to an eight page summary of project work and results that will be compiled in an annual report of Chesapeake Bay Stock Assessment Research Program results.

2. Periodic Workshops—Investigators will be expected to attend one or two workshops with other Stock Assessment Research Program researchers to encourage interdisciplinary dialogue and forge synthesis of results.

3. Primary applicant certifications—All primary applicants must submit a completed Form CD-511, “Certifications Regarding Debarment, Suspension and Other Responsibility Matters; Drug-Free Workplace Requirements and Lobbying,” and the following explanations are hereby provided:

(a) Nonprocurement debarment and suspension—Prospective participants (as defined at 15 CFR 26.105) are subject to 15 CFR 26, “Nonprocurement Debarment and Suspension,” and the related section of the certification form prescribed above applies;

(b) Drug-free workplace—Grantees (as defined at 15 CFR 26.605) are subject to 15 CFR 26, subpart F, “Governmentwide Requirements for Drug-Free Workplace (Grants),” and the related section of the certification form prescribed above applies;

(c) Anti-lobbying—Persons (as defined at 15 CFR 28.105) are subject to the lobbying provisions of 31 U.S.C. 1352, “Limitation on use of appropriated funds to influence certain Federal contracting and financial transactions, and the lobbying section of the certification form prescribed above applies to applications/bids for grants, cooperative agreements, and contracts for more than $100,000, and loans and loan guarantees for more than $150,000, or the single family maximum mortgage limit for affected programs, whichever is greater; and

(d) Anti-lobbying disclosure—Any applicant who has paid or will pay for lobbying using any funds must submit an SF-LLL, “Disclosure of Lobbying Activities,” as required under 15 CFR part 28, appendix B.

4. Lower Tier Certifications—Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form SF-LLL, “Disclosure of Lobbying Activities.” Form CD-512 is intended for the use of recipients and should not be transmitted to DOC. An SF-LLL submitted by any tier recipient or subrecipient should be submitted to DOC in accordance with the instructions contained in the award document. B. Other requirements. 1. Federal policies and procedures—Recipients and subrecipients are subject to all Federal laws and Federal and DOC policies, regulations, and procedures applicable to Federal financial assistance awards.

2. Indirect Cost rates—The budget may include an amount for indirect costs if the applicant has an established indirect cost rate with the Federal government. The total dollar amount of the indirect costs proposed in the application under this program must not exceed the indirect cost rate negotiated and approved by a cognizant Federal agency prior to the proposed effective date of the award. However, the Federal share of the indirect costs may not exceed 25 percent of the total proposed direct costs. Applicants with indirect cost rates above 25 percent may use the amount above the 25-percent level as part of the non-Federal share. Information must be included with the application of the current, approved, negotiated Indirect Cost Agreement with the Federal Government by indicating a web site address or by providing a current copy, if no web site is available.

3. Past Performance—Unsatisfactory performance under prior Federal awards may result in an application not being considered for funding. In addition, any recipient and/or researcher who is past due for submitting acceptable progress reports on any previous project funded under this program may be ineligible to be considered for new awards until the delinquent reports are received, reviewed and deemed acceptable by NMFS.

4. Financial Management Certifications/preaward accounting survey—Successful applicants, at the discretion of the NOAA Grants Officer, may be required to have their financial management systems certified by an independent public accountant as being in compliance with Federal standards specified in the applicable OMB Circulars prior to execution of the award. Any first-time applicant for Federal grant funds may be subject to a preaward accounting survey by the DOC specified in the applicable OMB Circulars/Code of Federal Regulations prior to execution of the award.

5. Delinquent Federal debts—No award of Federal funds shall be made to an applicant who has an outstanding delinquent Federal debt until either:

a. The delinquent account is paid in full;

b. A negotiated repayment schedule is established and at least one payment is received; or

c. Other arrangements satisfactory to DOC are made.

6. Name checks—Potential recipients may be required to submit an “Identification-Application for Funding Assistance”

(Form CD-346), which is used to ascertain background information on key individuals associated with the potential recipient. All non-profit and for-profit applicants are subject to a name check review process. Name checks are intended to reveal if any key individuals associated with the applicant have been convicted of or are presently facing, criminal charges such as fraud, theft, perjury, or other matters that significantly reflect on the applicant's management honesty or financial integrity. Applicants will also be subject to credit check reviews.

7. False statements—A false statement on the application is grounds for denial or termination of funds and grounds for possible punishment by a fine or imprisonment as provided in 18 U.S.C. 1001.

8. Preaward activities—If applicants incur any costs prior to an award being made, they do so solely at their own risk of not being reimbursed by the Government. Notwithstanding any verbal or written assurance that may have been received, there is no obligation on the part of DOC to cover preaward costs.

9. Purchase of American-made equipment and products—Applicants are hereby notified that they will be encouraged, to the greatest extent practible, to purchase American-made equipment and products with funding provided under this program in accordance with Congressional intent as set forth in the resolution contained in Pub.L 103-317, sections 607(a) and (b).

10. Other—If an application is selected for funding, DOC has no obligation to provide any additional funding in connection with that award. Renewal of an award to increase funding or extend the period of performance is at the total discretion of DOC.

Cooperative agreements awarded pursuant to pertinent statutes shall be in accordance with the Fisheries Research Plan (comprehensive program of fisheries research) in effect on the date of the award.

Classification

This action has been determined to be “not significant” for purposes of Executive Order 12866.

Applications under this program are subject to Executive Order 12372, “Intergovernmental Review of Federal Programs.”

Prior notice and an opportunity for public comment are not required by the Administrative Procedure Act or any other law for this notice concerning grants, benefits, and contracts. Therefore, a regulatory flexibility analysis is not required for purposes of the Regulatory Flexibility Act.

This notice contains collections of information subject to the Paperwork Reduction Act, which have been approved by OMB under OMB control number 0648-0044.

Dated: March 15, 2000.
Penelope D. Dalton,
Assistant Administrator for Fisheries, National Marine Fisheries Services.

[FR Doc. 00-7075 Filed 3-21-00; 8:45 am]

BILLING CODE 3510-22-F